DEPARTMENT OF ENERGY

Federal Energy Regulatory Commission

[Docket No. AD05-3-000]

Promoting Regional Transmission Planning and Expansion To Facilitate Fuel Diversity Including Expanded Uses of Coal-Fired Resources; Post-Technical Conference Notice Inviting Comments

May 18, 2005.

On May 13, 2005, the Commission convened a technical conference in Charleston, West Virginia, in order to identify regional solutions to promote regional transmission planning, expansion and enhancement to facilitate fuel diversity including increased integration of coal-fired resources to the transmission grid. As announced at the conclusion of the conference, entities are invited to file comments in the above-captioned docket on the topics discussed at the conference. Comments are due on May 27, 2005.

The Commission encourages electronic submission of comments in lieu of paper using the “eFiling” link at http://www.ferc.gov. Persons unable to file electronically should submit an original and 14 copies of the comment to the Federal Energy Regulatory Commission, 888 First Street, NE., Washington, DC 20426.

All filings in this docket are accessible online at http://www.ferc.gov, using the “eLibrary” link and will be available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

Docket No. AD05-3-000 Page 6

[FR Doc. E5-2622 Filed 5-24-05; 8:45 am]

BILLING CODE 6717-01-P